DEPARTMENT OF DEFENSE

Department of the Army

Notice of Availability of the Draft Environmental Impact Statement (DEIS) for Activities Associated With Future Programs at the U.S. Army Dugway Proving Ground, Utah

AGENCY: Department of the Army, DoD.

ACTION: Notice of availability.

SUMMARY: This announces the availability of the DEIS for Activities Associated with Future Programs at the U.S. Army Dugway Proving Ground (DPG). The DEIS provides information on potential effects to the human and physical environment resulting from present and reasonably foreseeable future activities that have been or may be undertaken by the various units and organizations at DPG. Mitigation of these potential effects is also considered in the DEIS.

DATES: The public comment period for the DEIS will end 45 days after publication of the notice of availability in the Federal Register by Environmental Protection Agency.

ADDRESSES: Written comments on the DEIS should be forwarded to: Commander, U.S. Army Dugway Proving Ground, Attn: STEDPPA (Draft EIS), Dugway, UT 84022-5000.

FOR FURTHER INFORMATION CONTACT: Ms. Paula Nicholson at (435) 831-3409, or by e-mail at nicholsn@dpg.army.mil.

SUPPLEMENTARY INFORMATION: The Proposed Action (preferred alternative) for the DEIS includes continuation of existing DPG activities (including chemical and biological defensive testing, other testing programs, training, real property management, and environmental management) with future increases in most testing and training operating areas. Additionally, the Proposed Action includes diversification of DPG operations and implementation of a Summary Development Plan identifying real property planning recommendations for DPG.

The DEIS considers two action alternatives to the Proposed Action and a No Action alternative. The two action alternatives are: (1) Decreased mission with a major reduction in operations at DPG and (2) a maximum expanded mission with major increases in most operating areas compared to current DPG operations.

The No Action alternative represents the status quo and assumes that existing DPG operations would continue at approximately their current rates into the foreseeable future. All existing actions currently the subject of environmental documentation, associated mitigation measures and mitigative planning strategies would continue to be implemented under the No Action alternative.

The DEIS is being produced as both a full volume (approximately 1000 pages) and as an Executive Summary (approximately 100 pages). Both the DEIS and Executive Summary are available on Compact Disc in Adobe PDF format.

Public meetings on the DEIS will be held in English Village (on DPG), Tooele, and Salt Lake City, UT. Exact dates and locations will be advertised in the local media and announced on the EIS website ­(http://www.dugway.army.mil) at least 15 days prior to the meetings. Additional information on the public meetings can also be obtained from the DPG Public Affairs Office at (435) 831-3409.

Anyone wishing to receive a copy of the DEIS or the Executive Summary may write to: U.S. Army Dugway Proving Ground, ATTN: CSTE-DTC-DP-PA (Paula Nicholson), Dugway, UT 84022-5000. A copy of either document may also be requested through the EIS website (http:\\www.dugway.army.mil).

The full DEIS and Executive Summary will be available at the following rooms: Whitmore Library, 2197 East 7000 South, Salt Lake City; University of Utah, J. Willard Marriott Library, Special Collections—Western Americana (5th floor), 15th East and South Campus Drive, Salt Lake City; Dugway Public Library, 5124 Kister Avenue, Dugway; Tooele City Public Library, 47 East Vine Street, Tooele. Copies at the public reading rooms are for review purposes only, and extra copies of the documents will not be available at these locations.

Dated: June 27, 2002.
Raymond J. Fatz,
Deputy Assistant Secretary of the Army (Environment, Safety and Occupational Health) OASA(I&E).

[FR Doc. 02-16648 Filed 7-1-02; 8:45 am]

BILLING CODE 3710-08-M